DEPARTMENT OF HEALTH AND HUMAN SERVICES

Administration for Children and Families

Submission for OMB Review; OCC Data Collection for Tribal Annual Report (OMB #0970-0430)

AGENCY: Office of Child Care, Administration for Children and Families, Department of Health and Human Services.

ACTION: Request for public comments.

SUMMARY: The Administration for Children and Families (ACF) is requesting a three-year extension of the form ACF-700 Tribal Annual Report (OMB #0970-0430, Expiration date: January 31, 2023. No changes are proposed.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: On an annual basis, Tribal Lead Agencies for the Child Care and Development Fund (CCDF) are required to submit aggregate information on services provided via the CCDF Tribal Annual Report, also known as the ACF-700 report and offers the Office of Child Care (OCC) a glimpse into how CCDF program dollars are being spent. The ACF-700 report captures administrative data about the number of families and children served. The report also contains specific questions that gather programmatic information about Tribal quality activities, coordination of activities with other early childhood programs, use of funds, technical assistance needs, use of the Data Tracker software, and progress toward identified goals. The data derived from this report allows OCC to generate and analyze aggregate information, thereby giving OCC a more comprehensive understanding of Tribal program activities more easily. The data are essential for demonstrating the accomplishments of Tribal child care programs.

Respondents: Tribal Grantees receiving CCDF funding. Tribes that operate child care under Public Law 102-477 Indian Employment, Training, and Related Services Plan are exempt from the ACF-700.

Annual Burden Estimates
Instrument | Total number of respondents | Total number of responses per respondent | Average burden hours per response | Total burden hours | Annual burden hours
ACF-700 | 141 (Tribes with small allocations) | 3 | 19 | 7,866 | 2,622
ACF-700 | 78 (Tribes with medium/large allocations) | 3 | 26 | 6,474 | 2,158

Estimated Total Annual Burden Hours: 4,780.

Authority: 42 U.S.C. 9857.

John M. Sweet, Jr.,
ACF/OPRE Certifying Officer.

[FR Doc. 2023-00421 Filed 1-11-23; 8:45 am]

BILLING CODE 4184-43-P